DEPARTMENT OF ENERGY

Federal Energy Regulatory Commission

Combined Notice of Filings #1

Take notice that the Commission received the following electric rate filings:

Docket Numbers: ER10-1585-003; ER10-1594-003; ER11-4051-002; ER10-1596-001; ER10-1617-003; ER12-60-005; ER10-1632-005; ER10-1628-003; ER11-1936-001.

Applicants: Alabama Electric Marketing, LLC, California Electric Marketing, LLC,CSOLAR IV South, LLC, High Desert Power Project, LLC, New Mexico Electric Marketing, LLC, Tenaska Power Management, LLC, Tenaska Power Services, Co., Texas Electric Marketing, LLC,TPF Generation Holdings, LLC, Alabama Electric Marketing, LLC.

Description: Updated Market Power Analysis of Tenaska MBR Seller in Southwest Region.

Filed Date: 6/27/13.

Accession Number: 20130627-5152.

Comments Due: 5 p.m. ET 8/26/13.

Docket Numbers: ER10-2331-021; ER10-2343-020; ER10-2317-018; ER10-2326-020; ER10-2327-021; ER10-2330-020.

Applicants: J.P. Morgan Ventures Energy Corporation, J.P. Morgan Commodities Canada Corporation, BE CA LLC, Cedar Brakes I, L.L.C., Cedar Brakes III, LLC., Utility Contract Funding, L.L.C.

Description: Updated Market Power Analysis and Order 697 Compliance Filing for the Southwest Region of JP Morgan Sellers.

Filed Date: 6/27/13.

Accession Number: 20130627-5149.

Comments Due: 5 p.m. ET 8/26/13.

Docket Numbers: ER10-2538-001.

Applicants: Panoche Energy Center, LLC.

Description: Triennial Market Power Study in Southwest Region and CAISO BAA of Panoche Energy Center, LLC.

Filed Date: 6/27/13.

Accession Number: 20130627-5153.

Comments Due: 5 p.m. ET 8/26/13.

Docket Numbers: ER10-3246-002.

Applicants: PacifiCorp.

Description: Triennial Market Power Update of PacifiCorp.

Filed Date: 6/28/13.

Accession Number: 20130628-5047.

Comments Due: 5 p.m. ET 8/27/13.

Docket Numbers: ER12-21-008; ER13-520-001; ER13-521-001; ER13-1441-001; ER13-1442-001; ER12-1626-002; ER13-1266-001; ER13-1267-001; ER13-1268-001; ER13-1269-001; ER13-1270-001; ER13-1271-001; ER13-1272-001; ER13-1273-001; ER10-2605-005.

Applicants: Agua Caliente Solar, LLC, Pinyon Pines Wind I, LLC, Pinyon Pines Wind II, LLC, Solar Star California XIX, LLC, Solar Star California XX, LLC, Topaz Solar Farms LLC, CalEnergy, LLC,CE Leathers Company, Del Ranch Company, Elmore Company, Fish Lake Power LLC, Salton Sea Power Generation Company, Salton Sea Power L.L.C., Vulcan/BN Geothermal Power Company, Yuma Cogeneration Associates.

Description: Updated Market Power Analysis of the MidAmerican Southwest MBR Sellers.

Filed Date: 6/26/13.

Accession Number: 20130626-5162.

Comments Due: 5 p.m. ET 8/26/13.

Docket Numbers: ER13-1813-000.

Applicants: Wisconsin Electric Power Company.

Description: Wisconsin Electric—PJM FERC Electric Rate Schedule 117 to be effective 7/20/2013.

Filed Date: 6/27/13.

Accession Number: 20130627-5093.

Comments Due: 5 p.m. ET 7/18/13.

Docket Numbers: ER13-1814-000.

Applicants: Appalachian Power Company.

Description: 20130627 Att K and L Revision to be effective 6/27/2013.

Filed Date: 6/27/13.

Accession Number: 20130627-5099.

Comments Due: 5 p.m. ET 7/18/13.

Docket Numbers: ER13-1815-000.

Applicants: Southern California Edison Company.

Description: Revised Added Facilities Rates Under WDAT to be effective 1/1/2013.

Filed Date: 6/27/13.

Accession Number: 20130627-5101.

Comments Due: 5 p.m. ET 7/18/13.

Docket Numbers: ER13-1816-000.

Applicants: Sustaining Power Solutions LLC.

Description: MBR Application to be effective 8/26/2013.

Filed Date: 6/27/13.

Accession Number: 20130627-5117.

Comments Due: 5 p.m. ET 7/18/13.

Docket Numbers: ER13-1817-000.

Applicants: PJM Interconnection, L.L.C., Wisconsin Electric Power Company.

Description: PJM & WEPCO file revised BAOCA: PJM?s Rate Schedule FERC No. 43 to be effective 7/20/2013.

Filed Date: 6/27/13.

Accession Number: 20130627-5118.

Comments Due: 5 p.m. ET 7/18/13.

Docket Numbers: ER13-1818-000.

Applicants: PJM Interconnection, L.L.C.

Description: Queue Position #X3-003? Original Service Agreement No. 3583 to be effective 5/30/2013.

Filed Date: 6/27/13.

Accession Number: 20130627-5119.

Comments Due: 5 p.m. ET 7/18/13.

Docket Numbers: ER13-1819-000.

Applicants: Southwest Power Pool, Inc.

Description: 1534R3 Kansas Municipal Energy Agency NITSA and NOA to be effective 6/1/2013.

Filed Date: 6/27/13.

Accession Number: 20130627-5127.

Comments Due: 5 p.m. ET 7/18/13.

Docket Numbers: ER13-1820-000.

Applicants: California Independent System Operator Corporation.

Description: 2013-06-27 CSOLAR Concurrence to be effective 6/13/2013.

Filed Date: 6/27/13.

Accession Number: 20130627-5136.

Comments Due: 5 p.m. ET 7/18/13.

Docket Numbers: ER13-1821-000.

Applicants: Southern California Edison Company.

Description: Amended & Restated Black Start Agreement to be effective 7/1/2013.

Filed Date: 6/27/13.

Accession Number: 20130627-5137.

Comments Due: 5 p.m. ET 7/18/13.

Docket Numbers: ER13-1822-000.

Applicants: PJM Interconnection, L.L.C.

Description: Revisions to the PJM OATT and OA re Access to E-tags to be effective 8/26/2013.

Filed Date: 6/27/13.

Accession Number: 20130627-5139.

Comments Due: 5 p.m. ET 7/18/13.

Docket Numbers: ER13-1823-000.

Applicants: PacifiCorp.

Description: FERC Triennial Change in Status Filing to be effective 9/1/2013.

Filed Date: 6/28/13.

Accession Number: 20130628-5001.

Comments Due: 5 p.m. ET 7/19/13.

Docket Numbers: ER13-1824-000.

Applicants: NV Energy, Inc.

Description: Service Agreement No. 13-00018 NITS Retail Access TSA CRC_NLV to be effective 9/1/2013.

Filed Date: 6/28/13.

Accession Number: 20130628-5002.

Comments Due: 5 p.m. ET 7/19/13.

Docket Numbers: ER13-1825-000.

Applicants: Southern California Edison Company.

Description: LGIA with KRCC to be effective 7/1/2013.

Filed Date: 6/28/13.

Accession Number: 20130628-5003.

Comments Due: 5 p.m. ET 7/19/13.

Docket Numbers: ER13-1826-000.

Applicants: Southern California Edison Company.

Description: LGIA with Sycamore to be effective 7/1/2013.

Filed Date: 6/28/13.

Accession Number: 20130628-5004.

Comments Due: 5 p.m. ET 7/19/13.

Docket Numbers: ER13-1827-000.

Applicants: Midcontinent Independent System Operator, Inc.

Description: 06-28-13 ETEC Attach O to be effective 12/19/2013.

Filed Date: 6/28/13.

Accession Number: 20130628-5030.

Comments Due: 5 p.m. ET 7/19/13.

Docket Numbers: ER13-1828-000.

Applicants: Interstate Power and Light Company.

Description: IPL Changes in Depreciation Rates for Wholesale Production Service to be effective 7/1/2013.

Filed Date: 6/28/13.

Accession Number: 20130628-5046.

Comments Due: 5 p.m. ET 7/19/13.

Docket Numbers: ER13-1829-000.

Applicants: Duke Energy Carolinas, LLC.

Description: PEMC FRPPA—RS 316 Revision (2013) to be effective 7/2/2012.

Filed Date: 6/28/13.

Accession Number: 20130628-5050.

Comments Due: 5 p.m. ET 7/19/13.

Docket Numbers: ER13-1830-000.

Applicants: Entergy Arkansas, Inc.

Description: Rattlesnake Wind Transfer Agreement to be effective 12/1/2014.

Filed Date: 6/28/13.

Accession Number: 20130628-5066.

Comments Due: 5 p.m. ET 7/19/13.

Docket Numbers: ER13-1831-000.

Applicants: Entergy Arkansas, Inc.

Description: Plum Point Transfer Agreement to be effective 7/1/2013.

Filed Date: 6/28/13.

Accession Number: 20130628-5070.

Comments Due: 5 p.m. ET 7/19/13.

Docket Numbers: ER13-1832-000.

Applicants: Southwest Power Pool, Inc.

Description: 2198R8 Kansas Power Pool NITSA and NOA to be effective 6/1/2013.

Filed Date: 6/28/13.

Accession Number: 20130628-5082.

Comments Due: 5 p.m. ET 7/19/13.

Docket Numbers: ER13-1833-000.

Applicants: Harbor Cogeneration Company, LLC.

Description: Clarification of Cat 2 Status in SW Region and Cat 1 Status in All Other Regions to be effective 7/1/2013.

Filed Date: 6/28/13.

Accession Number: 20130628-5103.

Comments Due: 5 p.m. ET 7/19/13.

Docket Numbers: ER13-1834-000.

Applicants: Valencia Power, LLC.

Description: Clarification of Cat 2 Status in SW Region and Cat 1 Status in All Other Regions to be effective 7/1/2013.

Filed Date: 6/28/13.

Accession Number: 20130628-5104.

Comments Due: 5 p.m. ET 7/19/13.

Docket Numbers: ER13-1835-000.

Applicants: Las Vegas Cogeneration II, L.L.C.

Description: Clarification of Cat 2 Status in SW Region and Cat 1 Status in All Other Regions to be effective 7/1/2013.

Filed Date: 6/28/13.

Accession Number: 20130628-5109.

Comments Due: 5 p.m. ET 7/19/13.

Docket Numbers: ER13-1836-000.

Applicants: Fountain Valley Power, L.L.C.

Description: Clarification of Category 1 Status in All Regions to be effective 7/1/2013.

Filed Date: 6/28/13.

Accession Number: 20130628-5110.

Comments Due: 5 p.m. ET 7/19/13.

Docket Numbers: ER13-1838-000.

Applicants: Las Vegas Cogeneration Limited Partnership.

Description: Clarification of Cat 2 Status in SW Region and Cat 1 Status in All Other Regions to be effective 7/1/2013.

Filed Date: 6/28/13.

Accession Number: 20130628-5116.

Comments Due: 5 p.m. ET 7/19/13.

Docket Numbers: ER13-1839-000.

Applicants: SWG Colorado, LLC.

Description: Clarification of Category 1 Status in All Regions to be effective 7/1/2013.

Filed Date: 6/28/13.

Accession Number: 20130628-5119.

Comments Due: 5 p.m. ET 7/19/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 28, 2013.
Nathaniel J. Davis, Sr.,
Deputy Secretary.

[FR Doc. 2013-16325 Filed 7-8-13; 8:45 am]

BILLING CODE 6717-01-P